COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds to the Procurement List a product to be furnished by nonprofit agencies employing persons who are blind or have other severe disabilities, and deletes from the Procurement List products and services previously furnished by such agencies.

EFFECTIVE DATE: July 29, 2007.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION:

Addition

On May 4, 2007, the Committee for Purchase From People Who Are Blind or Severely Disabled published notice (72 FR 25244) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Binder, Loose-leaf:

NSN: 7510-00-281-6180—Black, 1′ Capacity for 8½ x 11” sheets, Turned Edge.

NSN: 7510-00-530-8881—Black, 2′ Capacity for 8½ x 11” sheets, Turned Edge.

NSN: 7510-01-203-8814—White, 2′ Capacity, view binder for 8½ x 11” sheets.

NSN: 7510-01-278-4130—Black, 2′ Capacity for 8½ x 11” sheets.

NSN: 7510-01-283-5274—Black, 1/2′ Capacity view binder for 8½ x 11” sheets.

NSN: 7510-01-425-6139—Red, ½′ Capacity, view binder for 8½ x 11′ sheets.

Coverage: A-List for the total Government requirements as specified by the General Services Administration.

NPA: South Texas Lighthouse for the Blind, Corpus Christi, TX.

Contracting Activity: General Services Administration, Region 2, New York, NY.

Deletions

On May 4, 2007, the Committee for Purchase From People Who Are Blind or Severely Disabled published notice (72 FR 25244) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Innerspring Mattress Rehabilitation (w/handles):

NSN: 7699 GRP I Hndl—Less than 36

NSN: 7699 GRP II Hndl—36

NSN: 7699 GRP III Hndl—Over 41

NSN: 7699 GRP IV Hndl—Over 49

Innerspring Mattress Rehabilitation (w/o handles):

NSN: 7699 GRP I w/o—Less than 36

NSN: 7699 GRP II w/o—36

NSN: 7699 GRP III w/o—Over 41

NSN: 7699 GRP IV w/o—Over 49

NPA: Georgia Industries for the Blind, Bainbridge, GA

NPA: L.C. Industries for the Blind, Inc., Durham, NC.

NPA: Lions Volunteer Blind Industries, Inc., Morristown, TN.

NPA: Mississippi Industries for the Blind, Jackson, MS.

NPA: Virginia Industries for the Blind, Charlottesville VA.

NPA: Winston-Salem Industries for the Blind, Winston-Salem, NC.

Contracting Activity: General Services Administration, Southwest Supply Center, Fort Worth, TX.

Services

Service Type/Location: Janitorial/Custodial, Austin Straubel International Airport, (ATCT and Base Building), 2077 Airport Drive, Green Bay, WI.

NPA: ASPIRO, Inc., Green Bay, WI.

Contracting Activity: Federal Aviation Administration, Des Plaines, IL.

Service Type/Location: Janitorial/Custodial, Iowa Air National Guard, (185th Air National Guard Base), Sioux Gateway Airport, Sioux City, IA.

NPA: Goodwill Community Rehabilitation Services, Inc., Sioux City, IA.

Contracting Activity: Department of the Air Force.

Service Type/Location: Janitorial/Custodial, U.S. Army Reserve Center (Middletown), Middletown, CT.

NPA: Allied Community Services, Inc., Enfield, CT.

Contracting Activity: Department of the Army, Devens Reserve Forces, MA.

Service Type/Location: Laundry Service, U.S. Air Force Academy (Cadet Dining Hall), Colorado Springs, CO.

NPA: Goodwill Industrial Services Corporation, Colorado Springs, CO.

Contracting Activity: U.S. Air Force Academy, Colorado Springs, CO.

Kimberly M. Zeich,
Director, Program Operations.

[FR Doc. E7-12641 Filed 6-28-07; 8:45 am]

BILLING CODE 6353-01-P